DEPARTMENT OF THE INTERIOR

Bureau of Land Management

[LLNML00000 L16100000.DO0000]

Notice of Intent To Prepare a Resource Management Plan for the Prehistoric Trackways National Monument, Las Cruces District Office, New Mexico and Associated Environmental Impact Statement

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Las Cruces District Office, Las Cruces, New Mexico, intends to prepare a Resource Management Plan (RMP) with an associated Environmental Impact Statement (EIS) for the Prehistoric Trackways National Monument and by this notice is announcing the beginning of the scoping process to solicit public comments and identify issues. The RMP will replace the existing Mimbres RMP (1993).

DATES: This notice initiates the public scoping process for the RMP with associated EIS. Comments on issues may be submitted in writing until February 4, 2010. The dates and locations of any scoping meetings will be announced at least 15 days in advance through local media, newsletters, and the BLM Web site at: http://www.blm.gov/nm/st/en/fo/Las_Cruces_District_Office.html. In order to be included in the Draft EIS, all comments must be received prior to the close of the scoping period or 15 days after the last public meeting, whichever is later. We will provide additional opportunities for public participation upon publication of the Draft RMP/EIS.

ADDRESSES: You may submit comments on issues and planning criteria related to Prehistoric Trackways National Monument RMP/EIS by any of the following methods:

• Web site: http://www.blm.gov/nm/st/en/fo/Las_Cruces_District_Office.html.

• E-mail: lcfo_rmp@nm.blm.gov.

• Fax: (575) 525-4412.

• Mail: BLM, Las Cruces District Office, 1800 Marquess Street, Las Cruces, New Mexico 88005.

Documents pertinent to this proposal may be examined at the Las Cruces District Office.

FOR FURTHER INFORMATION CONTACT: For further information and/or to have your name added to our mailing list, contact Lori Allen; telephone (575) 525-4454; address BLM, Las Cruces District Office, 1800 Marquess Street, Las Cruces, New Mexico 88005; e-mail Lori_Allen@blm.gov.

SUPPLEMENTARY INFORMATION: This document provides notice that the BLM District Office, Las Cruces, New Mexico, intends to: (1) Prepare an RMP with an associated EIS for the Prehistoric Trackways National Monument; (2) announce the beginning of the scoping process; and (3) seek public input on issues and planning criteria.

The planning area is located in Doña Ana County, New Mexico and encompasses approximately 6,000 acres of public land.

The purpose of the public scoping process is to determine relevant issues that will influence the scope of the environmental analysis, including alternatives, and guide the planning process. Preliminary issues for the planning area have been identified by BLM personnel, Federal, State, and local agencies, and other stakeholders and include Paleozoic resource protection, scientific research, off-highway vehicle use/recreation, and interpretation and education. Preliminary planning criteria will include the following:

1. The RMP will be in compliance with the Omnibus Public Land Management Act of 2009, FLPMA, NEPA, and all other applicable laws, regulations, and policies;

2. Land use decisions will apply to the surface and subsurface estate managed by the BLM;

3. The planning process will follow the BLM Land Use Planning Handbook, H-1601-1 and NEPA Handbook, H-1790-1 for program specific guidance;

4. Public participation and collaboration will be an integral part of the planning process;

5. The BLM will strive to make decisions in the plan compatible with the existing plans and policies of adjacent local, State, and Federal agencies and tribal entities, as long as the decisions are consistent with the purposes, policies, and programs of Federal law and regulations applicable to public land;

6. The RMP will recognize valid existing rights;

7. The RMP will incorporate, where applicable, management decisions brought forward from existing planning documents;

8. The BLM will work cooperatively and collaboratively with cooperating agencies and all other interested groups, agencies, and individuals;

9. The BLM will consider public welfare and safety when addressing hazardous materials and fire management;

10. Geographic Information System and metadata information will meet Federal Geographic Data Committee standards, as required by Executive Order 12906;

11. The planning process will provide for ongoing consultation with tribal entities and strategies for protecting recognized traditional uses;

12. Planning and management direction will focus on the relative values of resources and not the combination of uses that will give the greatest economic return or economic output;

13. Where practicable and timely for the planning effort, the best available scientific information, research, and new technologies will be used; and

14. The Economic Profile System will be used as one source of demographic and economic data for the planning process.

You may submit comments on issues and planning criteria in writing to the BLM at any public scoping meeting, or you may submit them to the BLM using one of the methods listed in the ADDRESSES section above. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Planning and NEPA, Paleontology, Outdoor Recreation, Minerals and Geology, Archeology, Wildlife, and others as may be needed.

Authority: 40 CFR 1501.7; 43 CFR 1610.2.

Linda S. C. Rundell,
State Director, New Mexico.

[FR Doc. E9-31248 Filed 1-4-10; 8:45 am]

BILLING CODE 4310-VC-P